DEPARTMENT OF COMMERCE

International Trade Administration

[A-523-810]

Polyethylene Terephthalate Resin From the Sultanate of Oman: Final Results of Antidumping Duty Administrative Review; 2018-2019

AGENCY: Enforcement and Compliance, International Trade Administration, Department of Commerce.

SUMMARY: The Department of Commerce (Commerce) determines that OCTAL SAOC-FZC (OCTAL) made U.S. sales of polyethylene terephthalate resin (PET resin) from the Sultanate of Oman (Oman) at less than normal value during the period of review (POR), i.e., May 1, 2018 through April 30, 2019.

DATES: Applicable January 28, 2021.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

On July 24, 2020, Commerce published the Preliminary Results of the 2018-2019 antidumping duty administrative review of PET resin from Oman.¹ On August 31, 2020, we received a case brief from DAK Americas, LLC, Indorama Ventures USA, Inc., and Nan Ya Plastics Corporation, America (collectively, petitioners). On September 8, 2020, we received a rebuttal brief from OCTAL.²

¹ See Polyethylene Terephthalate Resin from the Sultanate of Oman: Preliminary Results of Antidumping Duty Administrative Review; 2018-2019, 85 FR 44856 (July 24, 2020) (Preliminary Results), and accompanying Preliminary Decision Memorandum.

² See Petitioners' Case Brief, “Polyethylene Terephthalate Resin from Oman: Petitioners' Case Brief,” dated August 31, 2020 (Petitioners' Brief); see also “OCTAL's Rebuttal Brief: Polyethylene Terephthalate (PET) Resin from the Sultanate of Oman,” dated September 8, 2020 (OCTAL's Rebuttal).

On April 24, 2020, Commerce tolled all deadlines in administrative reviews by 50 days.³ On July 21, 2020, Commerce tolled all deadlines in administrative reviews by an additional 60 days.⁴ The revised deadline for the final results of this administrative review is now January 19, 2021.

³ See Memorandum, “Tolling of Deadlines for Antidumping and Countervailing Duty Administrative Reviews in Response to Operational Adjustments Due to COVID-19,” dated April 24, 2020.

⁴ See Memorandum, “Tolling of Deadlines for Antidumping and Countervailing Duty Administrative Reviews,” dated July 21, 2020.

Scope of the Order

The merchandise covered by this order is PET resin having an intrinsic viscosity of at least 0.70, but not more than 0.88, deciliters per gram. The merchandise subject to this order is properly classified under subheadings 3907.60.00.30, 3907.61.0000, 3907.61.0010, 3907.61.0050, 3907.69.0000, 3907.69.0010, and 3907.69.0050 of the Harmonized Tariff Schedule of the United States (HTSUS).⁵ Although the HTSUS subheadings are provided for convenience and customs purposes, the written description of the merchandise covered by this order is dispositive.⁶

⁵ On January 27, 2017, Commerce added HTS numbers 3907.61.0000 and 3907.69.0000 to the Case Reference File. See Memorandum, “Request from Customs and Border Protection to Update the ACE Case Reference File: Polyethylene Terephthalate Resin form the Sultanate of Oman (A-523-810),” dated January 31, 2017. Further, on February 28, 2019, Commerce added HTS numbers 3907.61.0010, 3907.61.0050, 3907.69.0010, and 3907.69.0050 to the Case Reference File. See Memorandum, “Request from U.S. Customs and Border Protection to Update the ACE Case Reference File: Polyethylene Terephthalate Resin form the Sultanate of Oman (A-523-810),” dated February 28, 2019.

⁶ For a complete description of the scope of the order, see memorandum, “Issues and Decision Memorandum for the Final Results of the 2018-2019 Administrative Review of the Antidumping Duty Order on Polyethylene Terephthalate Resin from the Sultanate of Oman,” dated concurrently with, and hereby adopted by, this notice (Issues and Decision Memorandum).

Analysis of Comments Received

All issues raised in the case and rebuttal briefs filed in this administrative review are addressed in the Issues and Decision Memorandum, which is hereby adopted by this notice. A list of issues raised is attached as the Appendix to this notice. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed and the electronic versions of the Issues and Decision Memorandum are identical in content.

Changes Since the Preliminary Results

Based on our review of the record and comments received from interested parties, we included in our calculation certain commission expenses which had been omitted from our preliminary dumping margin calculation. Additionally, after reviewing our preliminary dumping margin calculation, we determined that it was appropriate to exclude certain home market sales of samples, and to revise programming language that we added to the preliminary dumping margin calculation to account for certain items reported in multiple currencies.⁷ We made no other changes to the Preliminary Results.

⁷ See Memorandum, “2018-2019 Antidumping Duty Administrative Review of Polyethylene Terephthalate Resin from the Sultanate of Oman: Final Results Analysis Memorandum for OCTAL SAOC-FZC,” dated concurrently with this notice.

Final Results of Review

We are assigning the following dumping margin to the firm listed below for the period May 1, 2018 through April 30, 2019:

Exporter/producer | Weighted- average dumping margin (percent)
OCTAL SAOC-FZC | 0.75

Disclosure

Commerce intends to disclose the calculations performed for these final results of review within five days of the date of publication of this notice in the Federal Register, in accordance with 19 CFR 351.224(b).

Assessment Rates

Pursuant to section 751(a)(2)(A) of the Tariff Act of 1930, as amended (the Act), and 19 CFR 351.212(b)(1), Commerce has determined, and U.S. Customs and Border Protection (CBP) shall assess, antidumping duties on all appropriate entries.⁸ Commerce calculated importer-specific ad valorem antidumping duty assessment rates by aggregating for each importer identified for the reported sales, the total amount of dumping calculated for sales for which that importer was reported and dividing each of these amounts by the total entered value of those sales. Commerce will instruct CBP to assess antidumping duties on all appropriate entries covered by this review where an importer-specific assessment rate is not zero or de minimis.

⁸ In these final results, Commerce applied the assessment rate calculation methodology adopted in Antidumping Proceedings: Calculation of the Weighted-Average Dumping Margin and Assessment Rate in Certain Antidumping Proceedings: Final Modification, 77 FR 8101 (February 14, 2012) (Final Modification for Reviews).

For entries of subject merchandise during the POR produced by OCTAL for which it did not know its merchandise was destined for the United States, Commerce will instruct CBP to liquidate such unreviewed entries at the all-others rate if there is no rate for the intermediate company(ies) involved in the transactions.

Consistent with its recent notice,⁹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁹ See Notice of Discontinuation of Policy to Issue Liquidation Instructions After 15 Days in Applicable Antidumping and Countervailing Duty Administrative Proceedings, 86 FR 3995 (January 15, 2021).

Cash Deposit Requirements

The following cash deposit requirements will be effective upon publication of this notice of final results of administrative review in the Federal Register for all shipments of subject merchandise entered, or withdrawn from warehouse, for consumption on or after the date of publication of the notice, as provided by section 751(a)(2) of the Act: (1) The cash deposit rate for OCTAL is the rate listed in the table above; (2) for previously reviewed or investigated companies not listed in the table above, the cash deposit rate will continue to be the company-specific rate published for the most recently completed segment of this proceeding; (3) if the exporter was not covered in this review, a prior review, or the investigation, but the producer was covered, the cash deposit rate will be the rate established in the most recently completed segment of this proceeding for the producer of the subject merchandise; and (4) the cash deposit rate for all other producers or exporters will continue to be 7.62 percent ad valorem, the all-others rate established in the investigation in this proceeding.¹⁰ These cash deposit requirements, when imposed, shall remain in effect until further notice.

¹⁰ See Certain Polyethylene Terephthalate Resin from Canada, the People's Republic of China, India, and the Sultanate of Oman: Amended Final Affirmative Antidumping Determination (Sultanate of Oman) and Antidumping Duty Orders, 81 FR 27979 (May 6, 2016).

Notification to Importers Regarding the Reimbursement of Duties

This notice also serves as a final reminder to importers of their responsibility under 19 CFR 351.402(f) to file a certificate regarding the reimbursement of antidumping duties prior to liquidation of the relevant POR entries. Failure to comply with this requirement could result in Commerce's presumption that reimbursement of antidumping duties occurred and the subsequent assessment of doubled antidumping duties.

Notification Regarding Administrative Protective Orders

This notice also serves as a reminder to parties subject to administrative protective orders (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i) of the Act, and 19 CFR 351.221(b)(5).

Dated: January 19, 2021.
Jeffrey I. Kessler,
Assistant Secretary for Enforcement and Compliance.

Appendix

List of Topics Discussed in the Issues and Decision Memorandum

I. Summary

II. Background

III. Scope of the Order

IV. Changes Since the Preliminary Results

V. Discussion of the Issues

Comment 1: Reprocessing Costs

Comment 2: U.S. Commission Expenses

VI. Recommendation

[FR Doc. 2021-01801 Filed 1-27-21; 8:45 am]

BILLING CODE 3510-DS-P